ENVIRONMENTAL PROTECTION AGENCY

[FRL-9483-9]

Notification of a Public Teleconference of the Clean Air Scientific Advisory Committee Air Monitoring and Methods Subcommittee

AGENCY: Environmental Protection Agency (EPA).

ACTION: Notice.

SUMMARY: The Environmental Protection Agency (EPA or Agency) Science Advisory Board (SAB) Staff Office announces a public teleconference of the Clean Air Scientific Advisory Committee (CASAC) Air Monitoring and Methods Subcommittee (AMMS) to discuss its draft report on EPA's draft Near-Road NO2 Monitoring Technical Assistance Document.

DATES: A public teleconference will be held on Thursday, November 17, 2011, from 12:30 p.m. to 4:30 p.m. (Eastern Time).

ADDRESSES: The public teleconference will be conducted by telephone only.

FOR FURTHER INFORMATION CONTACT: Any member of the public wishing further information regarding this Notice and public teleconference may contact Mr. Edward Hanlon, Designated Federal Officer (DFO), SAB Staff Office, by telephone/voice mail at (202) 564-2134; by fax at (202) 565-2098 or via email at hanlon.edward@epa.gov. General information concerning the EPA CASAC can be found at the EPA CASAC Web site at http://www.epa.gov/casac. Any inquiry regarding EPA's draft Near-Road NO2 Monitoring Technical Assistance Document should be directed to Mr. Nealson Watkins, EPA Office of Air Quality Planning and Standards (OAQPS), at watkins.nealson@epa.gov or (919) 541-5522.

SUPPLEMENTARY INFORMATION: Background: The CASAC was established pursuant to the under the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. CASAC is a Federal Advisory Committee chartered under the Federal Advisory Committee Act (FACA), 5 U.S.C., App. 2. Pursuant to FACA and EPA policy, notice is hereby given that the CASAC AMMS will hold a public teleconference to discuss the Subcommittee's draft Near-Road NO2 Monitoring Technical Assistance Document.

In February 2010, EPA promulgated new minimum monitoring requirements for the nitrogen dioxide (NO2) monitoring network in support of a newly revised National Ambient Air Quality Standard (NAAQS) for 1-hour NO2. In the new monitoring requirements, state and local air monitoring agencies are required to install near-road NO2 monitoring stations in larger urban areas. In August 2010, EPA's Office of Air and Radiation (OAR) requested that CASAC review the initial phase of EPA's Near Road project, and CASAC issued a final report to the EPA Administrator in November 2010 entitled “Review of the `Near-road Guidance Document—Outline' and `Near-road Monitoring Pilot Study Objectives and Approach' ” (EPA-CASAC-11-001). OAR considered CASAC's recommendations and drafted a technical document entitled “Near-Road NO2 Monitoring Technical Assistance Document—DRAFT August 11, 2011” to provide guidance to state and local air monitoring agencies on how to successfully implement near-road NO2 monitors. OAR requested CASAC advice on how to improve this draft guidance, and on September 29, 2011 AMMS held a public teleconference call to discuss review comments on EPA's draft document. Materials from this September 29, 2011 teleconference call are posted on the CASAC Web site at http://yosemite.epa.gov/sab/sabproduct.nsf/bf498bd32a1c7fdf85257242006dd6cb/07f0cde2113f6c26852578f5006a7581!OpenDocument&Date=2011-09-29. The purpose of the November 17, 2011 teleconference call is for the CASAC Panel to discuss its draft review report that was developed based on consensus views reached during the September 29, 2011 teleconference call.

Availability of Meeting Materials: The agenda and materials in support of this teleconference call will be placed on the EPA CASAC Web site at http://www.epa.gov/casac in advance of the teleconference call.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments for a federal advisory committee to consider pertaining to EPA's charge to the panel, EPA review or background documents, or this advisory activity. Input from the public to the SAB will have the most impact if it consists of comments that provide specific scientific or technical information or analysis for the SAB panel to consider or if it relates to the clarity or accuracy of the technical information. Members of the public wishing to provide comment should contact the Designated Federal Officer for the relevant advisory committee directly. Oral Statements: In general, individuals or groups requesting an oral presentation at this public teleconference will be limited to three minutes per speaker. Interested parties should contact Mr. Edward Hanlon, DFO, in writing (preferably via email), at the contact information noted above, by November 10, 2011 to be placed on the list of public speakers for the teleconference. Written Statements: Written statements should be received in the SAB Staff Office by November 10, 2011 so that the information may be made available to the CASAC AMMS for their consideration. Written statements should be supplied to the DFO in the following formats: one hard copy with original signature, and one electronic copy via email (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Edward Hanlon at the phone number or email address noted above, preferably at least ten days prior to the teleconference call, to give EPA as much time as possible to process your request.

Dated: October 20, 2011.
Vanessa T. Vu,
Director, EPA Science Advisory Board Staff Office.

[FR Doc. 2011-27808 Filed 10-26-11; 8:45 am]

BILLING CODE 6560-50-P